DEPARTMENT OF ENERGY

Energy Information Administration

Agency Information Collection Extension

AGENCY: U.S. Energy Information Administration (EIA), Department of Energy (DOE).

ACTION: Notice.

SUMMARY: EIA has submitted an information collection request as required by the Paperwork Reduction Act of 1995. The information collection requests a three-year extension with changes to Form EIA-846, “Manufacturing Energy Consumption Survey” (MECS), OMB Control Number 1905-0169. Form EIA-846 collects data from the U.S. manufacturing sector on energy consumption, expenditures, shipments of energy offsite, end use consumption, building characteristics, participation in energy management programs, technologies, and fuel switching capacity.

DATES: Comments regarding this proposed information collection must be received on or before August 29, 2018. If you anticipate that you will be submitting comments, but find it difficult to do so within the period of time allowed by this notice, please advise the DOE Desk Officer at OMB of your intention to make a submission as soon as possible. The Desk Officer may be telephoned at (202) 395-4718.

ADDRESSES: Written comments should be sent to the DOE Desk Officer: Brandon Debruhl, Office of Information and Regulatory Affairs, Office of Management and Budget, New Executive Office Building, Room 10102, 735 17th Street NW, Washington, DC 20503. Email: Brandon_F_DeBruhl@omb.eop.gov; and to Tom Lorenz, Office of Energy Consumption and Efficiency Statistics, Forrestal Building, EI-22, U.S. Department of Energy, 1000 Independence Avenue SW, Washington, DC 20585 or by fax at (202) 586-9753, or by email at Thomas.Lorenz@eia.gov.

FOR FURTHER INFORMATION CONTACT: Requests for additional information or copies of the information collection instrument and instructions should be directed to Tom Lorenz at the contact information given above or by email at Thomas.Lorenz@eia.gov. Form EIA-846 and its instructions are available on the internet at https://www.eia.gov/survey/form/eia_846/proposed/2018/form.pdf.

SUPPLEMENTARY INFORMATION: This information collection request contains:

(1) OMB No. 1905-0169;

(2) Information Collection Request Title: Manufacturing Energy Consumption Survey;

(3) Type of Request: Three-year extension with changes;

(4) Purpose: Form EIA-846 is a self-administered sample survey designed to collect energy consumption and expenditures data from establishments in the manufacturing sector; i.e., North American Industry Classification System (NAICS) codes 31-33. The previous MECS required respondents to complete multiple collection forms depending on an establishment's primary business activity classification under NAICS. The increased use of technology by means of an internet data collection system has allowed the MECS to eliminate the need to have multiple forms;

(4a) Changes to Information Collection:

• Questions about Tire-Derived Fuel: EIA will collect data about tire-derived fuel (TDF) in the Waste Oils and Tars, and Waste Byproduct Gases section of the questionnaire starting on page 35 of Form EIA-846A. The new questions will be inserted after questions 138-139, specifically from those industries, Paper (NAICS 322) and Nonmetallic Mineral Products (NAICS 327) that use TDF as an energy source. EIA currently asks respondents to report TDF on the MECS in a section titled, “Other.” The change to report TDF as a separate category will reduce respondent uncertainty regarding where to report this information. The questions on TDF are the same questions that have previously been asked about this energy source: Purchases; expenditures; transfers-in; amount produced on-site; whether it's a product/byproduct of another energy source consumed on-site; and fuel consumption. Over the past three MECS cycles, TDF has become a growing energy source within the “Other” section and accounts for over half of the energy consumed that is reported in that section. Previous data collection cycles may have undercounted the use of TDF because some establishments did not know where to report their TDF volumes. By directly asking for these data as a separate data element, EIA will improve the coverage and accuracy of the use of this energy source.

• Question 16 about electric generation with less than one-megawatt nameplate capacity was added. EIA will collect data about small-scale (less than one megawatt) distributed electricity generation occurring at U.S. manufacturing establishments. EIA will add a Yes/No question about distributed generation to the electricity section of the MECS to monitor manufacturing establishments that use non-renewable distributed generation. Distributed generation is a subset of “distributed energy resources” which are modular, moderately sized generation sources that are used to produce electricity, or combined heat and power (CHP), near the site of end use. EIA expects that generation from non-renewable, small-scale distributed generation (e.g., micro turbines, fuel cells, natural gas generator sets, and diesel generator sets below one megawatt) will increase in the future. This increase in non-renewable, small-scale distributed generation is expected to continue because of a variety of factors, including increased demand for reliable and resilient power, deployment mandates (e.g., renewable portfolio standards), improved technology and decreased cost of distributed generation, low natural gas prices, and high retail electricity rates.

(5) Annual Estimated Number of Respondents: 15,000;

(6) Annual Estimated Number of Total Responses: 3,750;

(7) Annual Estimated Number of Burden Hours: 34,565;

(8) Annual Estimated Reporting and Recordkeeping Cost Burden: The cost of the burden hours is estimated to be $2,616,225 (34,565 burden hours times $75.69 per hour). EIA estimates that there are no additional costs to respondents associated with the surveys other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on July 17, 2018.
Nanda Srinivasan,
Director, Office of Survey Development and Statistical Integration, U.S. Energy Information Administration.

[FR Doc. 2018-16250 Filed 7-27-18; 8:45 am]

BILLING CODE 6450-01-P